DEPARTMENT OF COMMERCE

National Oceanic and Atmospheric Administration

[I.D. 082305A]

Endangered Species; File No. 1544

AGENCY: National Marine Fisheries Service (NMFS), National Oceanic and Atmospheric Administration (NOAA), Commerce.

ACTION: Notice; receipt of application.

SUMMARY: Notice is hereby given that East Coast Observers Inc., Patricia Bargo, Principal Investigator, PO Box 6192, Norfolk Virginia 23508, has applied in due form for a permit to take loggerhead (Caretta caretta), green (Chelonia mydas), hawksbill (Eretmochelys imbricata), Kemp's ridley (Lepidochelys kempii), and leatherback (Dermochelys coriacea) marine turtles, and shortnose sturgeon (Acipenser brevirostrom) for purposes of scientific research.

DATES: Written, telefaxed, or e-mail comments must be received on or before September 26, 2005.

ADDRESSES: The application and related documents are available for review upon written request or by appointment in the following offices:

Permits, Conservation and Education Division, Office of Protected Resources, NMFS, 1315 East-West Highway, Room 13705, Silver Spring, MD 20910; phone (301)713-2289; fax (301)427-2521; and

Southeast Region, NMFS, 263 13th Avenue South, St. Petersburg, FL 33701; phone (727)824-5312; fax (727)824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 1544.

FOR FURTHER INFORMATION CONTACT: Patrick Opay or Layne Bolen, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The East Coast Observers, Inc. proposes to perform marine turtle abundance and relocation trawls in conjunction with U.S. Army Corps of Engineers (Corps) dredging projects in the Atlantic and Gulf coasts. Collected marine turtles would be handled, measured, flipper and PIT tagged, and released. A single tissue sample may be taken from each individual turtle for genetic analysis. Collected shortnose sturgeon would be captured, handled and released. The applicant is requesting the following annual take of juvenile, immature, and adult marine turtles and shortnose sturgeon: 750 loggerheads, 500 greens, 300 Kemp's ridleys, 10 hawksbills, 10 leatherbacks and 50 shortnose sturgeon. The permit would be issued for five years.

Dated: August 23, 2005.
Stephen L. Leathery,
Chief, Permits, Conservation and Education Division, Office of Protected Resources, National Marine Fisheries Service.

[FR Doc. 05-17040 Filed 8-25-05; 8:45 am]

BILLING CODE 3510-22-S